DEPARTMENT OF THE INTERIOR

Fish and Wildlife Service

[Docket No. FWS-R3-ES-2022-0147; FXES11140300000-234]

Draft Environmental Assessment and Proposed Habitat Conservation Plan; Receipt of an Application for an Incidental Take Permit, Crescent Wind Project; Hillsdale County, Michigan

AGENCY: Fish and Wildlife Service, Interior.

ACTION: Notice of availability; request for comment and information.

SUMMARY: We, the U.S. Fish and Wildlife Service, have received an application from Consumers Energy Company for an incidental take permit under the Endangered Species Act, for its Crescent Wind Project (project). If approved, the permit would authorize the incidental take of two endangered species, the Indiana bat and the northern long-eared bat. The applicant has prepared a habitat conservation plan in support of their application. We also announce the availability of a draft environmental assessment, which has been prepared in response to the permit application in accordance with the requirements of the National Environmental Policy Act. We invite comments from the public and Federal, Tribal, State, and local governments.

DATES: We will accept comments received or postmarked on or before February 27, 2023.

ADDRESSES: Document availability: Electronic copies of the documents this notice announces, along with public comments received, will be available online in Docket No. FWS-R3-ES-2022-0147 at https://www.regulations.gov.

Comment submission: Please specify whether your comment addresses the proposed habitat conservation plan, draft Environmental Assessment, any combination of the aforementioned documents, or other documents. You may submit written comments by one of the following methods:

• Online: https://www.regulations.gov. Search for and submit comments on Docket No. FWS-R3-ES-2022-0147.

• By hard copy: Submit comments by U.S. mail to Public Comments Processing, Attn: Docket No. FWS-R3-ES-2022-0147; U.S. Fish and Wildlife Service; 5275 Leesburg Pike, MS: PRB/3W; Falls Church, VA 22041-3803.

FOR FURTHER INFORMATION CONTACT: Scott Hicks, Field Supervisor, Michigan Ecological Services Field Office, by email at scott_hicks@fws.gov, or telephone at 517-351-6274; or Andrew Horton, Regional HCP Coordinator, Midwest Region, by email at andrew_horton@fws.gov, or telephone at 612-713-5337. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service, have received an application from Consumers Energy Company for an incidental take permit (ITP) under the Endangered Species Act (ESA; 16 U.S.C. 1531 et seq.), for its Crescent Wind Project (project). If approved, the ITP would be for a 30-year period and would authorize the incidental take of two endangered species, the Indiana bat (Myotis sodalis), and northern long-eared bat (Myotis septentrionalis). The applicant has prepared a habitat conservation plan (HCP) that describes the actions and measures that the applicant would implement to avoid, minimize, and mitigate incidental take of the Indiana bat and northern long-eared bat. We also announce the availability of a draft environmental assessment (EA), which has been prepared in response to the permit application in accordance with the requirements of the National Environmental Policy Act (NEPA; 42 U.S.C. 4321 et seq.).

Background

Section 9 of the Endangered Species Act of 1973, as amended (16 U.S.C. 1531 et seq.), and its implementing regulations prohibit the “take” of animal species listed as endangered or threatened. “Take” is defined under the ESA as to “harass, harm, pursue, hunt, shoot, wound, kill, trap, capture, or collect [listed animal species], or to attempt to engage in such conduct” (16 U.S.C. 1538). However, under section 10(a) of the ESA, we may issue permits to authorize incidental take of listed species. “Incidental take” is defined by the ESA as take that is incidental to, and not the purpose of, carrying out an otherwise lawful activity. Regulations governing incidental take permits (ITP) for endangered and threatened species, respectively, are found in the Code of Federal Regulations at 50 CFR 17.22 and 50 CFR 17.32.

Applicant's Proposed Project

The applicant requests a 30-year ITP to take the federally endangered Indiana bat (Myotis sodalis) and northern long-eared bat (Myotis septentrionalis). The applicant determined that take is reasonably certain to occur incidental to operation of 60 wind turbines that have a total generating capacity of 166 megawatts and cover approximately 38,320 acres of private land. The proposed conservation strategy in the applicant's proposed HCP is designed to avoid, minimize, and mitigate the impacts of the covered activity on the covered species. The biological goals and objectives are to minimize potential take of Indiana bats and northern long-eared bats through on-site minimization measures, and to provide habitat conservation measures for Indiana bats and northern long-eared bats to offset any impacts from operations of the project. The HCP provides on-site avoidance and minimization measures, which include turbine operational adjustments and acoustic-activated curtailment technology that adjusts turbine operations when bats are detected acoustically near turbine blades. The authorized level of take from the project is 96 Indiana bats and 49 northern long-eared bats over the 30-year project duration. To offset the impacts of taking Indiana bats and northern long-eared bats, the applicant proposes to protect summer maternity habitat in Hillsdale County, Michigan, as well as known swarming/staging habitat for both species at an approved mitigation site in southern Indiana. The summer mitigation site is connected to habitat where both covered species were captured during preconstruction surveys for the Crescent Wind Project, and the swarming/staging site is located within a mile of Ray's Cave, a Priority 1 hibernaculum for Indiana bats, where bats from two southern Michigan maternity colonies have been observed during hibernation.

National Environmental Policy Act

Issuance of an ITP is a Federal action that triggers the need for compliance with NEPA. We prepared a draft EA that analyzes the environmental impacts on the human environment resulting from three alternatives: A no-action alternative, the proposed action, and a more restrictive alternative consisting of feathering below higher wind speeds that results in lower impacts to bats.

Next Steps

The Service will evaluate the permit application and the comments received to determine whether the application meets the requirements of section 10(a) of the ESA. We will also conduct an intra-Service consultation pursuant to section 7 of the ESA to evaluate the effects of the proposed take. After considering the above findings, we will determine whether the permit issuance criteria of section 10(a)(l)(B) of the ESA have been met. If met, the Service will issue the requested ITP to the applicant.

Request for Public Comments

The Service invites comments and suggestions from all interested parties during a 30-day public comment period (see DATES). Information and comments regarding the following topics are requested:

1. The environmental effects that implementation of any alternative could have on the human environment;

2. Whether or not the significance of the impact on various aspects of the human environment has been adequately analyzed;

3. Any threats to the Indiana bat and the northern long-eared bat that may influence their populations over the life of the ITP that are not addressed in the proposed HCP or Environmental Assessment; and

4. Any other information pertinent to evaluating the effects of the proposed action on the human environment.

Availability of Public Comments

You may submit comments by one of the methods shown under ADDRESSES. We will post on https://www.regulations.gov all public comments and information received electronically or via hardcopy. All comments received, including names and addresses, will become part of the administrative record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Authority

We provide this notice under section 10(c) of the Endangered Species Act (16 U.S.C. 1531 et seq.) and its implementing regulations (50 CFR 17.22) and the National Environmental Policy Act (42 U.S.C. 4371 et seq.) and its implementing regulations (40 CFR 1506.6; 43 CFR part 46).

Lori Nordstrom,
Assistant Regional Director, Ecological Services.

[FR Doc. 2023-01696 Filed 1-26-23; 8:45 am]

BILLING CODE 4333-15-P